DEPARTMENT OF ENERGY

Federal Energy Regulatory Commission

[Docket No. ES00-23-000, et al.]

Rochester Gas and Electric Corporation., et al. Electric Rate and Corporate Regulation Filings

March 29, 2000.

Take notice that the following filings have been made with the Commission:

1. Rochester Gas and Electric Corporation

[Docket No. ES00-23-000]

Take notice that on March 23, 2000, Rochester Gas and Electric Corporation tendered for filing an application pursuant to Section 204 of the Federal Power Act seeking authorization to issue short-term secured and unsecured promissory notes between June 1, 2000, and May 31, 2002, in an amount not to exceed $200,000,000.

Comment date: April 19, 2000, in accordance with Standard Paragraph E at the end of this notice.

2. Bonneville Power Administration

[Docket No. NJ00-2-000]

Take notice that on March 22, 2000, Bonneville Power Administration (Bonneville), tendered for filing a Petition for Declaratory Order Finding the Merchant Function May Have Access to Customer-Specific Hourly Metered Load Data under the Commission's Standards of Conduct.¹

¹ Open Access Same-Time Information System (Formerly Real-Time Information network) and Standards of Conduct, 61 FR 21737 (May 10, 1996), FERC Stats. & Regs., Regulations Preambles January 1991-1996 ¶ 31,035 (April 24, 1996), Order No. 889-A, order on rehearing, 62 FR 12484 (March 14, 1997), III FERC Stats. & Regs. ¶ 31,049 (March 4, 1997); Order No. 889-B, rehearing denied, 62 FR 64715 (December 9, 1997), III FERC Stats. & Regs. ¶ 31,253 (November 25, 1997).

Comment date: April 13, 2000, in accordance with Standard Paragraph E at the end of this notice.

3. Citizens Utilities Company

[Docket No. ES98-23-001]

Take notice that on March 22, 2000, Citizens Utilities Company (Citizens) submitted a request under Section 204 of the Federal Power Act to extend the authorization granted under Docket No. ES98-23-000 for 60-days. On April 23, 1998, the Commission authorized Citizens to issue no more than $294.5 million of securities in support of or to guarantee securities issued by various governmental or quasi-governmental bodies. The Commission also waived the competitive bidding and negotiated placement requirements in 18 CFR 34.2.

Comment date: April 12, 2000, in accordance with Standard Paragraph E at the end of this notice.

4. Alcoa Power Generation, Inc., Alcoa, Inc., Tapoco, Inc., Yadkin, Inc., Alcoa Generating Corporation, Long Sault, Inc., and Colockum Transmission Company, Inc.

[Docket No. OA99-3-000]

Take notice that on February 25, 2000, Alcoa Power Generating, Inc., tendered for filing revised standards of conduct Order Nos. 889 et seq.² on behalf of Alcoa, Inc., Tapoco, Inc., Yadkin, Inc., Alcoa Generating Corporation, Long Sault, Inc., and Colockum Transmission Company, Inc. (Alcoa).

² Open Access Same-Time Information System (Formerly Real-Time Information Network) and Standards of Conduct, 61 FR 21737 (May 10, 1996), FERC Stats. & Regs., Regulations Preambles January 1991-1996 ¶ 31,035 (April 24, 1996), Order No. 889-A, order on rehearing, 62 FR 12484 (March 14, 1997), III FERC Stats. & Regs. ¶ 31,049 (March 4, 1997); Order No. 889-B, rehearing denied, 62 FR 64715 (December 9, 1997), III FERC Stats. & Regs. ¶ 31,253 (November 25, 1997).

Alcoa states that it served copies of the filing on the service list in this proceeding.

5. Green Mountain Power Corporation

[Docket No. ER00-1958-000]

Take notice that on March 24, 2000, Green Mountain Power Corporation (GMP), tendered for filing a service agreement for New Hampshire Electric Cooperative, Inc., to take service under its Network Integration Transmission Service tariff.

Copies of this filing have been served on each of the affected parties, the Vermont Public Service Board and the Vermont Department of Public Service.

Comment date: April 14, 2000, in accordance with Standard Paragraph E at the end of this notice.

6. New Century Services, Inc.

[Docket No. ER00-1959-000]

Take notice that on March 24, 2000, New Century Services, Inc., on behalf of Cheyenne Light, Fuel and Power Company, Public Service Company of Colorado, and Southwestern Public Service Company (collectively Companies), tendered for filing a Service Agreement under their Joint Open Access Transmission Service Tariff for Long Term Firm Point-to-Point Transmission Service between the Companies and Southwestern Public Service Company—Wholesale Merchant Function.

Comment date: April 14, 2000, in accordance with Standard Paragraph E at the end of this notice.

7. FirstEnergy System

[Docket No. ER00-1960-000]

Take notice that on March 24, 2000, FirstEnergy System tendered for filing a Service Agreement to provide Non-Firm Point-to-Point Transmission Service for Statoil Energy Services, Inc., (the Transmission Customer). Services are being provided under the FirstEnergy System Open Access Transmission Tariff submitted for filing by the Federal Energy Regulatory Commission in Docket No. ER97-412-000.

The proposed effective date under this Service Agreement is April 01, 2000, for the above mentioned Service Agreement in this filing.

Comment date: April 14, 2000, in accordance with Standard Paragraph E at the end of this notice.

8. UtiliCorp United Inc.

[Docket No. ER00-1961-000]

Take notice that on March 24, 2000, UtiliCorp United Inc. (UtiliCorp), tendered for filing service agreements with Conectiv Energy Supply, Inc., for service under its Short-Term Firm Point-to-Point open access service tariff for its operating divisions, Missouri Public Service, WestPlains Energy-Kansas and WestPlains Energy-Colorado.

Comment date: April 14, 2000, in accordance with Standard Paragraph E at the end of this notice.

9. UtiliCorp United Inc.

[Docket No. ER00-1962-000]

Take notice that on March 23, 2000, UtiliCorp United Inc. (UtiliCorp), tendered for filing Service agreements with Conectiv Energy Supply, Inc., for service under its Non-Firm Point-to-Point open access service tariff for its operating divisions, Missouri Public Service, WestPlains Energy-Kansas and WestPlains Energy-Colorado.

Comment date: April 14, 2000, in accordance with Standard Paragraph E at the end of this notice.

10. Southwest Power Pool, Inc.

[Docket No. ER00-1963-000]

Take notice that on March 24, 2000, Southwest Power Pool, Inc., tendered for filing notice that effective March 31, 2000, Rate Schedule Nos. 25 and 26, effective date June 1, 1998, and filed with the Federal Energy Regulatory Commission by Southwest Power Pool Inc., are to be canceled.

Notice of the proposed cancellation has been served upon Illinova Power Marketing, Inc., (formerly, Illinois Power Company).

Comment date: April 14, 2000, in accordance with Standard Paragraph E at the end of this notice.

11. Detroit Edison Company Docket and Consumers Energy Company

[Docket No. ER00-1964-000]

Take notice that on March 24, 2000, Consumers Energy Company (Consumers), on behalf of itself and Detroit Edison Company (Detroit Edison), tendered for filing an addendum to various coordination rate schedules that would permit the incremental cost of sulfur dioxide (SO2) emissions allowances to be included in the calculation of rates under those rate schedules. The rate schedules affected are: Consumers Energy Company Rate Schedules FERC No. 22, 23 and 45 and Detroit Edison Company Rate Schedules FERC No. 11, 12 and 26. The change is designed to conform the rate schedules to the Commission's rule regarding the ratemaking treatment of SO2 emissions allowances for Phase II units issued under the Clean Air Act Amendments of 1990.

Copies of the filing were served upon the other parties to the above-listed rate schedules as well as upon the Michigan Public Service Commission.

Comment date: April 14, 2000, in accordance with Standard Paragraph E at the end of this notice.

12. Southwest Power Pool, Inc.

[Docket No. ER00-1965-000]

Take notice that on March 24, 2000, Southwest Power Pool, Inc. (SPP), tendered for filing revised service agreements for Firm Point-to-Point Transmission Service, Non-Firm Point-to-Point Transmission Service and Loss Compensation Service with PPL Electric Utilities Corporation, d/b/a/ PPL Utilities. Earlier versions of these agreements identifying PP&L, Inc., as the Transmission Customer were filed by the Commission and accepted as Service Agreement Nos. 138, 139 and 186 to SPP's FERC Electric Tariff Volume No. 1, respectively.

SPP seeks an effective date of March 14, 2000, for these agreements.

Comment date: April 14, 2000, in accordance with Standard Paragraph E at the end of this notice.

13. Edison Sault Electric Company

[Docket No. ER00-1966-000]

Take notice that on March 24, 2000, Edison Sault Electric Company (Edison Sault), tendered for filing Amendment No. 1 to Supplemental Agreement No. 8 to the Contract for Electric Service between Edison Sault and Cloverland Electric Cooperative, Inc., (Cloverland) dated April 9, 1999.

Copies of the filing were served upon Cloverland.

Comment date: April 14, 2000, in accordance with Standard Paragraph E at the end of this notice.

14. Cordova Energy Company LLC

[Docket No. ER00-1967-000]

Take notice that on March 24, 2000, Cordova Energy Company LLC (Cordova), tendered for filing an agreement under which it will sell power to MidAmerican Energy Company.

Cordova requests an effective date of July 20, 2000.

Cordova states that is has served a copy of the filing on the Illinois Commerce Commission, the Iowa Utilities Board, and the South Dakota Public Utilities Commission.

Comment date: April 14, 2000, in accordance with Standard Paragraph E at the end of this notice.

15. Avista Corporation

[Docket No. ER00-1970-000]

Take notice that on March 20, 2000, Avista Corporation tendered for filing a Certificate of Concurrence for the 1999-2000 Operating Procedures under the Pacific Northwest Coordination Agreement (PNCA) filed by Puget Sound Energy, Inc., in Docket No. ER00-1583.

Comment date: April 10, 2000, in accordance with Standard Paragraph E at the end of this notice.

16. Northern Border Pipeline Company

[Docket No. MG00-5-001]

Take notice that on March 24, 2000, Northern Border Pipeline Company (Northern Border), tendered for filing revised standards of conduct in response to the Commission's February 29, 2000 Order (90 FERC ¶ 61,219 (2000)).

Northern Border states that it has served copies of this filing to all parties on the official service list in this proceeding.

Comment date: April 13, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-8897 Filed 4-10-00; 8:45 am]

BILLING CODE 6717-01-P